DEPARTMENT OF ENERGY

Federal Energy Regulatory Commission

[Project No. 659-014]

Crisp County Power Commission; Notice of Application and Applicant-Prepared EA Accepted for Filing, Soliciting Motions To Intervene and Protests, and Soliciting Comments, Final Recommendations, Terms and Conditions, and Prescriptions

March 22, 2007.

Take notice that the following hydroelectric application and applicant-prepared environmental assessment has been filed with the Commission and is available for public inspection.

a. Type of Application: New Major License.

b. Project No.: 659-014.

c. Date filed: August 3, 2006.

d. Applicant: Crisp County Power Commission.

e. Name of Project: Lake Blackshear Hydroelectric Project.

f. Location: On the Flint River in Worth, Lee, Sumter, Dooly, and Crisp Counties, near Cordele, Georgia. The project does not occupy Federal lands.

g. Filed Pursuant to: Federal Power Act 16 U.S.C. 791(a)-825(r).

h. Applicant Contact: Steve Rentfrow, General Manager, Crisp County Power Commission, 202 South 7th Street, Cordele, GA 31015, Phone: 229-273-3811.

i. FERC Contact: Allyson Conner at (202) 502-6082, or allyson.conner@ferc.gov.

j. Deadline for filing motions to intervene and protests, comments, and final recommendations, terms and conditions, and prescriptions is 60 days from the issuance of this notice; reply comments are due 105 days from the issuance date of this notice.

All documents (original and eight copies) should be filed with: Philis J. Posey, Acting Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. Description of Project: The Lake Blackshear Project is located on the Flint River at river mile 134.7. The project includes the following constructed facilities: (1) A 4,462-foot-long dam consisting of (a) a 3,410-foot-long, 30-foot-maximum height north embankment with a crest elevation of 247.0 feet mean sea level (msl) and containing a 630-foot-long concrete auxiliary spillway section with a crest elevation of 238.0 feet msl, (b) a 402-foot-long, 46-foot-maximum height gated spillway with fourteen 25-foot-wide by 17-foot-high Tainter gates, (c) a 150-foot-long, 77-foot-wide, 49-foot-high combined powerhouse and intake section integral with the dam, containing one Francis fixed-blade propeller turbine, two vertical shaft propeller turbines, and one vertical shaft Kaplan turbine each coupled to generating units with a total generating capacity of 15.2 megawatts, and (d) a 650-foot-long, 30-foot-high south embankment, with the crest at elevation 247.5 feet msl; (2) an 8,700-acre reservoir at a normal maximum water surface elevation of 237.0 feet msl, with 34,800 acre-feet of usable storage; and (3) appurtenant facilities. The average annual generation is estimated to be about 47,414 megawatt-hours. The applicant has no plans to modify existing project facilities or operations.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

o. A license applicant must file, no later than 60 days following the date of issuance of this notice: (1) A copy of the water quality certification; (2) a copy of the request for certification, including proof of the date on which the certifying agency received the request; or (3) evidence of waiver of water quality certification.

Philis J. Posey,
Acting Secretary.

[FR Doc. E7-5699 Filed 3-28-07; 8:45 am]

BILLING CODE 6717-01-P